DEPARTMENT OF LABOR

Employment and Training Administration

[TA-W-40,333]

Lynchburg Foundry Company, Radford, VA; Notice of Termination of Investigation

Pursuant to section 221 of the Trade Act of 1974, an investigation was initiated on November 5, 2001 in response to a worker petition which was filed on October 30, 2001 on behalf of workers at Lynchburg Foundry Company, Radford, Virginia. The subject firm is a subsidiary of Intermet Corporation.

The petitioning group of workers is subject to an ongoing investigation for which a determination has not yet been issued (TA-W-40,060). Consequently, further investigation in this case would serve no purpose, and the investigation has been terminated.

Signed at Washington, DC, this 20th day of December 2001.
Linda G. Poole,
Certifying Officer, Division of Trade Adjustment Assistance.

[FR Doc. 01-32207 Filed 12-31-01; 8:45 am]

BILLING CODE 4510-30-M